DEPARTMENT OF AGRICULTURE

Commodity Credit Corporation

Cooperative Conservation Partnership Initiative—Chesapeake Bay Watershed

AGENCY: Commodity Credit Corporation and Natural Resources Conservation Service, Department of Agriculture.

ACTION: Notice of Request for proposals.

SUMMARY: The purpose of this request for proposals is to solicit proposals from potential partner applicants who seek to enter into partnership agreements with the Natural Resources Conservation Service (NRCS) through the Cooperative Conservation Partnership Initiative—Chesapeake Bay Watershed (CCPI-CBW) in order to provide assistance to producers enrolled in a conservation program. The NRCS is the administrator of CCPI-CBW.

CCPI-CBW was established by the Food, Conservation, and Energy Act of 2008 (2008 Act). CCPI-CBW is a voluntary conservation initiative that enables the use of certain conservation programs, combined with resources from eligible partners who have entered into partnership agreements with NRCS, to provide financial and technical assistance to owners and operators of agricultural and nonindustrial private forest lands. Through fiscal year (FY) 2011 CCPI-CBW, NRCS will make Environmental Quality Incentives Program (EQIP) and Wildlife Habitat Incentive Program (WHIP) funds available to eligible producers in approved CCPI-CBW project areas. Special priority consideration will be given to applications/projects in the river basins of the Patuxent, Potomac (North and South), Shenandoah, and Susquehanna (see attached map). In addition, priority will be given to applications/projects in the NRCS Chesapeake Bay Watershed priority areas (see attached map).

DATES: Effective Date: The notice of request is effective December 16, 2010. Proposals must be received on or before January 31, 2011.

ADDRESSES: Applicants are highly encouraged to submit proposals electronically to cbwi@wdc.usda.gov. Identify the proposal is for CCPI-CBW.

Paper proposals may be submitted via courier service to Dana D. York, Director, Watershed and Landscape Programs Division, Department of Agriculture, Natural Resources Conservation Service, 1400 Independence Avenue, SW., Room 6015 South Building, Washington, DC 20250. CCPI-CBW proposal should be marked on the envelope.

Do not send submissions via registered or certified mail. Do not send the same proposal to both the e-mail and mailing address; use only one method to submit a proposal. If submitting more than one project proposal, submit each one separately.

FOR FURTHER INFORMATION CONTACT: Dana D. York, Director, Watershed and Landscape Programs Division, Department of Agriculture, Natural Resources Conservation Service; 1400 Independence Avenue, SW., Room 5239 South Building, Washington, DC 20250; Telephone: (202) 720-8851; Fax: (202) 720-2998; E-mail: cbwi@wdc.usda.gov.

Persons with disabilities who require alternative means for communication (Braille, large print, audio tape, etc.) should contact the USDA TARGET Center at: (202) 720-2600 (voice and TDD).

SUPPLEMENTARY INFORMATION:

The Cooperative Conservation Partnership Initiative—Chesapeake Bay Watershed

Overview of the Cooperative Conservation Partnership Initiative—Chesapeake Bay Watershed

The CCPI-CBW is a voluntary conservation initiative that enables the use of certain conservation programs, combined with resources from eligible partners, to provide financial and technical assistance to owners and operators of agricultural and nonindustrial private forest lands in order to enhance conservation outcomes and achieve resource conservation objectives. The functions of CCPI-CBW are described in two parts: CCPI-CBW partners and CCPI-CBW program participants.

CCPI-CBW Partners

Under CCPI-CBW, eligible potential partners may submit proposals addressing the criteria outlined in this request for proposals. Partners who may enter into partnership agreements with NRCS include federally recognized Indian tribes, State and local units of government, producer associations, farmer cooperatives, institutions of higher education, and nongovernmental organizations with a history of working cooperatively with producers to effectively address conservation priorities related to agricultural production and nonindustrial private forest land. Individual agricultural producers are not an eligible partner entity and may not submit CCPI-CBW proposals.

When Submitting a Proposal and Being a Partner

Proposals will be evaluated in a competitive review process. NRCS will use the proposal ranking score along with other review commentary to select proposals for funding. After selection, the partners will enter into a partnership agreement with NRCS. The partnership agreement will not obligate funds, but will address:

1. The role of the partner;

2. The role of NRCS;

3. The responsibilities of the partner as it relates to the monitoring and evaluation;

4. The frequency and duration of monitoring and evaluation to be completed by the partner;

5. The format and frequency of reports (semi-annual, annual, and final) required as a condition of the partnership agreement;

6. Budget which includes other funding sources (if applicable) for financial and technical assistance;

7. The specified project schedule and timeframe; and

8. Other requirements deemed necessary by NRCS to further the purposes of the CCPI-CBW project.

Where flexibility is needed to meet project objectives, the partner may request that program adjustments be allowed, provided such policy adjustments are within the scope of the applicable program's statutory and regulatory program authorities. An example of a program adjustment may be to expedite the applicable program ranking process in a situation where a partner has identified the producers approved to participate in the project. Another example of a program adjustment may include flexibility in payment rate, or using a single area-wide plan of operations rather than individual plan of operations. An example of program authority that cannot be waived under the provision of CCPI-CBW flexibility includes program payment limits, maximum practice payment percentages, and participant eligibility requirements. Questions regarding proposed requests for CCPI-CBW flexibility may be directed to: CCPI@wdc.usda.gov.

CCPI-CBW is not a grant program, and all Federal funds made available through this request for proposals will be paid directly to producers through program contract agreements. No technical assistance funding may be provided to a partner through the CCPI-CBW partnership agreement. However, if requested by a partner, the State Conservationist may consider developing a separate contribution agreement to provide funding for delivery of technical services to producers participating in an approved CCPI-CBW project.

CCPI-CBW Program Participants

Once the agency approves and announces the selected partner projects, eligible agricultural producers located within the approved project areas may apply directly to NRCS for funding through one or more of the following programs: EQIP and WHIP. The CCPI-CBW uses the funds, policies, and processes of these programs to deliver assistance to eligible producers to implement approved conservation practices, enhancements, and activities.

Producers interested in applying must meet the eligibility requirements of the program for which they are applying. Individual applications from eligible producers will be evaluated and ranked to ensure that the producer applications selected for funding are most likely to achieve project objectives. Once applications are selected, the producers may enter into a contract or cost-share agreement with NRCS. Participants may enter into multiple program contracts through CCPI-CBW if more than one program is needed to accomplish the project objectives.

During FY 2011, an objective of CCPI-CBW is to deliver EQIP and WHIP assistance to producers to achieve high-priority conservation objectives in geographic areas defined by the partner. Depending upon the program available in the project area, the assistance provided enables eligible producers to implement conservation practices and enhancements, including the development and adoption of innovative conservation practices and management approaches.

Availability of Funding

Effective on the publication date of this notice, the CCC announces the availability of up to $3.5 million in EQIP and WHIP financial assistance for CCPI-CBW during FY 2011.

Proposal Information

Proposal Format

It is highly recommended that the proposal be submitted via e-mail. Consult the NRCS national CCPI Web site for an example of an acceptable proposal document at: http://www.nrcs.usda.gov/programs/CCPI/. Do not submit other documents or letters of endorsement. The entire proposal may not exceed 12 pages in length including summary, maps, reference materials, and related reports.

Required Information

The proposal must include the following:

1. Proposal Cover Sheet and Summary (not to exceed two pages):

a. Project Title.

b. Project director/manager name, telephone number, and mailing and e-mail addresses.

c. Name and contact information for lead partner entity submitting the proposal.

d. Name and contact information for other collaborating partners.

e. Short summary of project including:

i. Project start and end dates (not to exceed a period of 5 years);

ii. Site map;

iii. Project objectives and resource concerns to be addressed; and

iv. Amount of CCPI-CBW financial assistance being requested by program.

2. Partner Background and Experience:

a. A description of the partner or partners' history of working with agricultural producers to address conservation priorities.

b. A description of how the partner(s) will collaborate to achieve the objectives of the agreement. Include:

i. The roles, responsibilities, and capabilities of the partner(s); and

ii. The financial or technical commitments of each of the partners and how they will be leveraged by the Federal contribution through EQIP or WHIP. If partners are not the submitter of the proposal and intend to commit resources, a letter or other documentation from these partners confirming a commitment of resources is required. Partners need to clearly state, by project objective, how they intend to leverage Federal funds along with resources. The funding and time contribution by agricultural producers to implement agreed-to conservation practices in program contracts may not be considered any part of a match from the potential partner for purposes of CCPI-CBW.

3. Project Objectives and Natural Resource Concerns:

a. Identify and provide details about the project objectives. Objectives should be specific, measureable, achievable, and results-oriented.

b. Identify and provide details about the natural resource concern(s) to be addressed in this project. Include in this description how the proposal objectives will address the listed resource concerns.

Note: A complete list of NRCS approved natural resource concerns may be found on the CCPI Web site at: http://www.nrcs.usda.gov/programs/ccpi/.

4. Project Description:

a. A detailed description of the geographic area covered by the proposal including:

i. Types of lands to be treated;

ii. The location and size of the proposed project area; and

iii. Twelve digit Hydrologic Unit Coordinates (12 digit HUCs). (Note: Contact the appropriate State Conservationist(s) serving the State(s) where the proposed project is located to obtain information on 12 digit HUCs. The State Conservationists contact information is at the end of this request for proposals).

b. A detailed map showing the project area. Include on the map:

i. Outlined areas which need conservation treatments;

ii. What conservation treatments are needed in what areas; and

iii. The order of priority for the different areas to be treated.

c. A description of the project timeline. Include:

i. Duration of the project, not to exceed 5 years in length;

ii. Project implementation schedule that details when different objectives and conservation practices will be completed;

iii. When partner and Federal resources will be used within the timeframe of the project. Include the total amount of financial assistance funds requested for each fiscal year of the project to be made available for producer contracts and cost-share agreements (for multi-State projects, provide the funds or acres by State as appropriate). The proposal must request NRCS program funds for obligation in producer contracts during FY 2011 (October 1, 2010 to September 30, 2011). Proposals which request funding starting after FY 2011 (September 30, 2011), will not be evaluated or considered during this funding cycle; and

iv. When the final project report will be submitted.

d. A description of the plan for monitoring, evaluating, and reporting on progress made toward achieving the objectives of the agreement.

e. Identify potential criteria to be used by NRCS to prioritize and rank agricultural producers' applications for EQIP and WHIP in the project area. Potential partners should collaborate with NRCS to develop meaningful criteria that NRCS can use to evaluate and rank producer' program applications. This will ensure that applications which will best accomplish the project's objectives will be selected.

f. An estimate of the percentage of producers, including nonindustrial private forest landowners, in the project area that may participate in the project along with an estimate of the total number of producers located in the project area. Provide details such as how the partner will encourage producer participation; whether the project includes any tribal producers, beginning farmers or ranchers, socially disadvantaged farmers or ranchers, or limited resource farmers or ranchers; and whether there are groups of producers who may submit joint applications to address resource issues of common interest and need.

g. A listing and description of the conservation practices, conservation activity plans, enhancements, and partner activities to be implemented during the project timeframe and the general sequence of implementation of the project. Also address technical assistance efforts that will be made by the partner. Describe any activities that are innovative or include outcome-based performance measures implemented by the partner. Information about approved NRCS practice standards is found at: http://www.nrcs.usda.gov/technical/standards/nhcp.html. For each conservation practice, estimate the amount of practice extent (feet, acres, number, etc.) the partner expects producers to implement and the amount of financial assistance requested to support implementation of each practice through producer contracts.

h. Indicate whether the project will address regulatory compliance and any other outcomes that partner expects to complete during the project period.

i. A detailed description of any requested policy adjustments, by program, with an explanation of why the adjustment is needed in order to achieve the objectives of the project.

j. A description of how the partner will provide for outreach to beginning farmers or ranchers, limited resource farmers or ranchers, socially disadvantaged farmers or ranchers, and Indian tribes.

k. A description of how the proposal's objectives may provide additional benefits to address renewable energy production, energy conservation, mitigating the effects of climate change, facilitating climate change adaptation, or fostering carbon sequestration, if applicable.

Ranking Considerations

The agency will evaluate proposals using a national competitive process. A higher priority may be given to proposals that:

1. Have a high percentage of producers actively farming or managing working agricultural or nonindustrial private forest lands included in the proposed project area;

2. Are in the river basins of the Patuxent, Potomac (North and South), Shenandoah, and Susquehanna;

3. Control erosion and reduce sediment and nutrient levels in ground and surface waters in designated 12 digit HUC priority watersheds (Note: Contact the appropriate State Conservationist(s) serving the State(s) where the proposed project is located to obtain information on 12 digit HUCs. The State Conservationist contact information is at the end of this request for proposals);

4. Significantly leverage non-Federal financial and technical resources;

5. Coordinate with other local, State, or Federal efforts;

6. Deliver high percentages of applied conservation practices to address water quality; water conservation; or State, regional, or national conservation initiatives;

7. Provide innovation in approved conservation practices, conservation methods, and delivery including outcome-based performance measures and methods;

8. Complete the application of the conservation practices and activities on all of the covered program contracts or cost-share agreements in 5 years or less;

9. Assist the participants in meeting local, State, and Federal regulatory requirements;

10. Provide for monitoring and evaluation of conservation practices, enhancements, and activities;

11. Provide for matching financial funds or technical assistance to assist participants with the implementation of their EQIP contracts and WHIP cost-share agreements;

12. Provide for outreach to, and participation of, beginning farmers or ranchers, socially disadvantaged farmers or ranchers, limited resource farmers or ranchers, and Indian tribes within the proposed project area; and

13. Identify other factors and criteria which best achieve the purposes of CCPI-CBW.

General CCPI-CBW Proposal Information

State Conservationist Letter of Review

Once a project proposal is received, the agency will provide a copy to the appropriate State Conservationist(s) for evaluation and ranking. The State Conservationist(s) will submit a letter of review to the NRCS National Headquarters to address:

1. Potential duplication of efforts with other projects or existing programs;

2. Adherence to, and consistency with, program regulations including requirements related to land and producer eligibility and use of approved NRCS resource concerns and conservation practices, enhancements, and other program requirements;

3. Expected benefits for project implementation in their State(s);

4. Other issues or concerns the State Conservationist is aware of that should be considered by the agency; and

5. A general recommendation for support or denial of project approval.

Proposal Submission, Review, and Notification

When submitting a proposal either by email or courier service, mark on the email or courier service envelope that the proposal is for CCPI-CBW. Your proposal must address, in sufficient detail, all the criteria outlined in the “Proposal Information” section of this notice. This will enable agency reviewers to understand your proposal's priority resource concerns, objectives, and expected outcomes.

State Conservationists are expected to provide, once requested, guidance to potential partners regarding resource concerns that may be addressed in the proposed project area, local working group and State Technical Committee natural resource priorities, approved conservation practices and activities, and other program requirements the partner should consider when developing a proposal. NRCS may not assist in writing or submission of any proposal.

CCPI-CBW proposals submitted to NRCS become the property of the agency for use in the administration of the program, may be filed or disposed of by the agency, and will not be returned to the potential partner. Once proposals have been submitted for review and ranking, there will be no further opportunity to change or re-submit the proposal. Incomplete proposals or those that do not meet the requirements set forth in this notice will not be considered, and notification of elimination will be mailed to the applicant. Partner proposals may be withdrawn by written notice to the Director, Watershed and Landscape Programs Division at any time prior to selection (see “Addresses” section in this notice).

NRCS will review and evaluate the proposals based on the criteria set forth in the respective “Proposal Information” section of this notice for CCPI-CBW. Positive consideration will be given to proposals that thoroughly address the issues outlined in the respective “Ranking Considerations” section.

Partners whose proposal is selected will receive a letter of official notification. Upon notification of selection, the partner should contact the appropriate State Conservationist to develop the required partnership agreement and other project implementation requirements. Potential partners should note that, depending upon available funding and agency priorities, NRCS may offer a reduced amount of program financial assistance from what was requested in the proposal. Partner submissions of proposals that were not selected will also be notified.

Waiver Authority

To assist in the implementation of CCPI-CBW projects, the NRCS Chief may waive the applicability of the Adjusted Gross Income Limitation in producer program contracts, on a case-by-case basis, in accordance with 7 CFR § 1400.500(d)(2). Such waiver requests must be submitted in writing from the program applicant, addressed to the Chief, and submitted through the local designated conservationist.

Signed this 9th day of December, 2010, in Washington, DC.
Dave White,
Vice President, Commodity Credit Corporation and Chief, Natural Resources Conservation Service.

Addresses and phone number of NRCS State Conservationists in States having land in the Chesapeake Bay Watershed:

Delaware: Russell Morgan

Suite 100, 1221 College Park Drive

Dover, DE 19904-8713

Phone: (302) 678-4160

Fax: (302) 678-0843

russell.morgan@de.usda.gov

Maryland: Jon Hall

John Hanson Business Center, Suite 301

339 Busch's Frontage Road

Annapolis, MD 21409-5543

Phone: (410) 757-0861 Ext. 315

Fax: (410) 757-6504

jon.hall@md.usda.gov

New York: Astor Boozer

Suite 354, 441 South Salina Street

Syracuse, NY 13202-2450

Phone: (315) 477-6504

Fax: (315) 477-6560

astor.boozer@ny.usda.gov

Pennsylvania: Denise Coleman

Suite 340, One Credit Union Place

Harrisburg, PA 17110-2993

Phone: (717) 237-2203

Fax: (717) 237-2238

denise.coleman@pa.usda.gov

Virginia: Jack Bricker

Culpeper Building, Suite 209

1606 Santa Rosa Road

Richmond, VA 23229-5014

Phone: (804) 287-1691

Fax: (804) 287-1737

jack.bricker@va.usda.gov

West Virginia: Kevin Wickey

Room 301, 75 High Street

Morgantown, WV 26505

Phone: (304) 284-7540

Fax: (304) 284-4839

kevin.wickey@wv.usda.gov

BILLING CODE 3410-16-P

[FR Doc. 2010-31648 Filed 12-15-10; 8:45 am]

BILLING CODE 3410-16-C